DEPARTMENT OF THE INTERIOR

National Park Service

[NPS-WASO-NRNHL-DTS#-40562; PPWOCRADI0, PCU00RP14.R50000]

National Register of Historic Places; Notification of Pending Nominations and Related Actions

AGENCY: National Park Service, Interior.

ACTION: Notice.

SUMMARY: The National Park Service is soliciting electronic comments on the significance of properties nominated before June 28, 2025, for listing or related actions in the National Register of Historic Places.

DATES: Comments should be submitted electronically by August 12, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before June 28, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

ALABAMA

Mobile County

Wilmer Hall, 3811 Old Shell Road, Mobile, SG100012074

DISTRICT OF COLUMBIA

District of Columbia

Episcopal Home for Children, 5901 Utah Avenue NW, Washington, SG100012073

MICHIGAN

Osceola County

Evart Downtown Historic District, Chiefly, North and South Main Street bounded by East Eighth Street, East Fifth Street, River Street, and Pine Street, Evart, SG100012093

MONTANA

Cascade County

Franklin School, 820 1st Avenue SW, Great Falls, SG100012075

NORTH CAROLINA

Dare County

Etheridge, Adam Dough, House, 1140 Highway 64, Manteo vicinity, SG100012088

Guilford County

Roberts Hall, 933 Roberts Hall Lane, High Point, SG100012089

Moore County

Amos Broadway Building, 1071 West New York Avenue, Southern Pines, SG100012079

Pasquotank County

Oak Grove Cemetery, 1400 Peartree Road, Elizabeth City, SG100012090

Warren County

Warren County Community Center, 111 West Franklin Street, Warrenton, SG100012077

All Saints Episcopal Church, 201 West Franklin Street, Warrenton, SG100012078

OHIO

Cuyahoga County

St. Mary School, 227 Front Street, Berea, SG100012076

PENNSYLVANIA

Bucks County

Ridge Valley Historic District, Allentown Road and Ridge Valley Road, West Rockhill Township (Sellersville), SG100012082

Philadelphia County, First Federal Savings & Loan Association of Philadelphia, 1330-32 Point Breeze Avenue, Philadelphia, SG100012081

TENNESSEE

Maury County

Old Stone Creamery, 2301 Sugar Ridge Road, Spring Hill, SG100012065

Putnam County

Ralph's Donut Shop, 59 S Cedar Avenue, Cookeville, SG100012064

Sullivan County

Earles Drug Store, 134 West Center Street, Kingsport, SG100012070

TEXAS

Anderson County

Bethel Baptist Church, 2849 County Rd. 2608, Tennessee Colony, SG100012086

UTAH

Utah County

Springville Historic District (Boundary Increase and Decrease) (Springville MPS), Roughly bounded by 400 North, 400 East, 800 South, Main St., 400 South and 400 West Springville, BC100012084

VERMONT

Chittenden County

Clemmons Farm, 2158 Greenbush Road, Charlotte, SG100012087

A request for removal has been made for the following resource(s):

SOUTH CAROLINA

Chester County

Elliott House, N of Richburg off SC 901 on CR 136, Richburg vicinity, OT71000764

Florence County

Young Farm, W of Florence on US 76, Florence vicinity, OT83003854

Lexington County

Hendrix, Henry Franklin, House, (Batesburg-Leesville MRA), Hendrix Heights Plantation, Leesville, OT82003886

Additional documentation has been received for the following resource(s):

MICHIGAN

Emmet County

Petoskey Downtown Historic District (Additional Documentation) (Petoskey MRA), Roughly bounded by Rose, Division, Michigan, and Petoskey, Petoskey, AD86002048

OREGON

Marion County

Silver Creek Youth Camp-Silver Falls State Park (Additional Documentation), 20024 Silver Falls Hwy., Sublimity vicinity, AD02000673

TENNESSEE

Davidson County

Omohundro Water Filtration Complex District (Additional Documentation) (Omohundro Waterworks System TR), 1400 Pumping Station Road, Nashville, AD87000380

UTAH

Utah County

Springville Historic District (Additional Documentation) (Springville MPS), Roughly bounded by 400 North, 400 East, 800 South, Main St., 400 South and 400 West, Springville, AD03000157

WISCONSIN

Dodge County

Widmer' s Cheese Cellars, 214 West Henni Street, Theresa, SG100012094

Nomination(s) submitted by Federal Preservation Officers:

The State Historic Preservation Officer reviewed the following nomination(s) and responded to the Federal Preservation Officer within 45 days of receipt of the nomination(s) and supports listing the properties in the National Register of Historic Places.

DISTRICT OF COLUMBIA

District of Columbia

World War I Memorial at Pershing Park, Between Pennsylvania Avenue NW (north and south), and 14th and 15th Streets NW, Washington, SG100012083

MISSOURI

Newton County

George Washington Carver National Monument (Boundary Increase), Address Restricted, Diamond vicinity, BC100012071

George Washington Carver National Monument (Additional Documentation), Address Restricted Diamond vicinity, AD66000114

Authority: Section 60.13 of 36 CFR part 60.

Sherry A. Frear,
Chief, National Register of Historic Places/National Historic Landmarks Program.

[FR Doc. 2025-14142 Filed 7-25-25; 8:45 am]

BILLING CODE 4312-52-P